DEPARTMENT OF ENERGY

Federal Energy Regulatory Commission

[Project No. 739-022-VA]

Appalachian Power Company; Notice of Availability of Environmental Assessment

In accordance with the National Environmental Policy Act of 1969 and the Federal Energy Regulatory Commission (Commission) regulations, 18 CFR Part 380 (Order No. 486, 52 FR 47879), the Office of Energy Projects has reviewed the application for a new license for the Claytor Hydroelectric Project, located on the New River in Pulaski County, Virginia, and prepared a final environmental assessment (EA). In the final EA, Commission staff analyzes the potential environmental effects of licensing the project and conclude that issuing a license for the project, with appropriate environmental measures, would not constitute a major Federal action significantly affecting the quality of the human environment.

A copy of the final EA is on file with the Commission and is available for public inspection. The final EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

For further information, contact Emily Carter at (202) 502-6512.

Dated: April 8, 2011.
Kimberly D. Bose,
Secretary.

[FR Doc. 2011-9067 Filed 4-13-11; 8:45 am]

BILLING CODE 6717-01-P